DEPARTMENT OF AGRICULTURE

Forest Service

Supplement to Draft Environmental Impact Statement for the Silvies Canyon Watershed Restoration Project, Malheur National Forest, Grant and Harney Counties, OR

AGENCY: Forest Service, USDA.

ACTION: Notice of intent to supplement a draft environmental impact statement.

SUMMARY: The USDA Forest Service will prepare a supplement to the draft environmental impact statement (EIS) for the Silvies Canyon Watershed Restoration Project. The draft EIS for the Silvies Canyon Watershed Restoration Project was released by Forest Supervisor Bonnie J. Wood in March 2001 (Notice of Availability, March 9, 2001). Based on comments received on the draft EIS, the Forest Supervisor decided to prepare a supplement pursuant to 40 CFR 1502.9(c)(1)(ii). This supplement will provide additional information to the existing analysis.

ADDRESSES: Send written comments and suggestions concerning the scope of this supplement to James M. Keniston, Emigrant Creek District Ranger, HC 74, Box 12870, Hines, Oregon 97738.

FOR FURTHER INFORMATION CONTACT: Lori Bailey, District Planner or Joan Suther, NEPA Coordinator, Emigrant Creek Ranger District, HC 74, Box 12870, Hines, Oregon 97738, phone 541-573-4300.

SUPPLEMENTARY INFORMATION: The purpose of the supplement is to provide additional information on the social and economic environments that would be affected by the Silvies Canyon Watershed Restoration Project. No additional alternatives will be considered in the supplemental draft EIS. The supplement will be prepared and circulated in the same manner as the draft EIS (40 CFR 1502.9). Comments received on the supplement will be considered in the preparation of the Final Environmental Impact Statement (FEIS). The supplement to the draft EIS is expected to be available for public review and comment in August 2001. The comment period on the supplement will be 45 days from the date the Environmental Protection Agency's notice of availability appears in the Federal Register.

The Forest Service believes it is important to give reviewers notice of several court rulings related to public participation in the environmental review process. First, reviewers of supplemental draft EIS must structure their participation in the environmental review of the proposal so that it is meaningful and alerts an agency to the reviewer's position and contentions. Vermont Yankee Nuclear Power Corp. v. NRDC, 435 U.S. 519, 553 (1978). Also, environmental objections that could be raised at the draft EIS stage, but that are not raised until completion of the final EIS, may be waived or dismissed by the courts. City of Angoon v. Hodel, 803 F. 2d 1016, 1002 (9th Cir, 1986), and Wisconsin Heritages, Inc. v. Harris, 490 F. Supp. 1334, 1338 (E.D. Wis. 1980). Because of these court rulings, it is important that those interested in this proposed action participate by the close of the 45-day comment period so substantive comments and objections are made available to the Forest Service at a time when it can meaningfully consider them and respond to them in the final EIS.

To assist the Forest Service in identifying and considering issues and concerns on the proposed action, comments on the supplemental draft EIS should be as specific as possible. It is also helpful if comments refer to specific pages or chapters of the supplemental draft EIS. Comments may also address the adequacy of the supplemental draft EIS or the merits of the alternatives formulated and discussed in the statement. (Reviewers may wish to refer to the Council on Environmental Quality Regulations for implementing the procedural provisions of the National Environmental Policy Act at 40 CFR 1503.3 in addressing these points).

After the 45 day comment period ends on the supplemental draft EIS, comments will be analyzed and considered by the Forest Service in preparing the final EIS. The final EIS is scheduled to be completed in November 2001. In the final EIS, the Forest Service is required to respond to substantive comments received during the public comment period. The Forest Service is the lead agency. The Forest Supervisor is the responsible official. The responsible official will consider comments, responses to comments, and environmental consequences discussed in the EIS, and applicable laws, regulations, and policies in making a decision regarding this project. The responsible official will document the Silvies Canyon Watershed Restoration decision and rationale for that decision in the Record of Decision. That decision will be subject to review under Forest Service Appeal Regulations (36 CFR part 215).

Dated: July 23, 2001.
Bonnie J. Wood,
Forest Supervisor.

[FR Doc. 01-20622 Filed 8-15-01; 8:45 am]

BILLING CODE 3410-11-M